DEPARTMENT OF ENERGY

Western Area Power Administration

Antelope Valley Station to Neset Transmission Project Record of Decision (DOE/EIS-0478)

AGENCY: Western Area Power Administration, DOE.

ACTION: Record of Decision.

SUMMARY: Western Area Power Administration (Western), an agency within the U.S. Department of Energy (DOE), received a request from Basin Electric Power Cooperative (Basin Electric) to interconnect its proposed Antelope Valley Station (AVS) to Neset Transmission Project (Project) to Western's Williston Substation and Williston to Charlie Creek 230-kilovolt (kV) transmission line. The Project would be located in northwest North Dakota including parts of Mercer, Dunn, McKenzie, Williams, and Mountrail counties. On May 30, 2014, the Notice of Availability (NOA) of the Final Environmental Impact Statement (EIS) for the Project was published in the Federal Register (79 FR 31085). The U.S. Department of Agriculture (USDA), Rural Utilities Service (RUS) was the lead Federal agency for the EIS. Western was a cooperating agency in preparation of the EIS. After considering the environmental impacts, Western has decided to allow Basin Electric's request for interconnection.

FOR FURTHER INFORMATION CONTACT: For further information, please contact Mr. Rod O'Sullivan, Corporate Services Office, Western Area Power Administration, A7400, P.O. Box 281213, Lakewood, CO 80228-8213, telephone (720) 962-7260 or email: OSullivan@wapa.gov. For general information on DOE's National Environmental Policy Act of 1969 (NEPA) review process, please contact Carol M. Borgstrom, Director, Office of NEPA Policy and Compliance, GC-54, U.S. Department of Energy, Washington, DC 20585, telephone (202) 586-4600 or (800) 472-2756.

SUPPLEMENTARY INFORMATION: Western is a Federal agency under the DOE that markets and transmits wholesale electrical power through an integrated 17,000-circuit mile, high-voltage transmission system across 15 western states. Basin Electric's request for interconnection was processed in accordance with Western's General Requirements for Interconnection, which sets forth the procedures and requirements for certain types of interconnection to Western's transmission system that are not provided for in Western's Open Access Transmission Tariff (e.g., system-to-system interconnections not associated with transmission or generator interconnection service).

Interested parties were notified of the proposed Project and the public scoping comment opportunity through a Notice of Intent published in the Federal Register on November 2, 2011 (76 FR 67670). The RUS published an NOA of the Draft EIS in the Federal Register on December 7, 2012 (77 FR 73029). On December 20, 2013, the U.S. Environmental Protection Agency (EPA) published an NOA of the Supplemental Draft EIS for the Project in the Federal Register (78 FR 77121). On May 30, 2014, RUS published an NOA of the Final EIS for the Project in the Federal Register (79 FR 31085).¹ The RUS published its NOA for its Record of Decision (ROD) on September 22, 2014, in the Federal Register (79 FR 56557). With the issuance of its ROD, RUS selected Alternative C as the transmission line route.

¹ The Final EIS can be found on the RUS Web site at: http://www.rurdev.usda.gov/UWP-AVS-Neset.html.

The RUS was the lead Federal agency for the EIS. Western and the USDA, Forest Service (USFS) participated as cooperating agencies on the EIS. After an independent review of the Final EIS, Western has concluded that its needs are satisfied and has adopted the Final EIS.

Proposed Federal Action

Western's proposed Federal action is to allow Basin Electric's Project to interconnect to Western's Williston Substation and Williston to Charlie Creek 230-kV transmission line.

Basin Electric Proposed Project

Basin Electric is proposing to construct, own and operate a new 345-kV transmission line and associated supporting infrastructure. The Project will consist of approximately 278 miles of transmission line, including 265 miles of new 345-kV transmission line and 13 miles of new 230-kV transmission line, five new substations and equipment additions, but no expansion to four existing substations. The proposed Project would connect to the Integrated System, the high-voltage transmission grid in the upper Great Plains managed by Western, at several locations, including Western's Williston Substation and a point along its Williston to Charlie Creek 230-kV transmission line. This Project is referred to as Alternative C in the Final EIS. Alternative C combines Alternative A, McKenzie County portions of Alternative B from the Draft EIS, and three new substations (Red, White, and Blue substations).

The new 345-kV transmission line would start at the AVS Electric Generation Station located near Beulah, North Dakota, and extend west where it would connect with Basin Electric's existing Charlie Creek 345-kV Substation located near Grassy Butte. The line would then extend north where it would connect with Basin Electric's proposed Judson Substation near Williston and terminate at Basin Electric's newly proposed Tande Substation. Additional 230-kV transmission lines would be constructed between the new Judson 345-kV Substation and Western's existing Williston Substation, between a new 345/230/115-kV substation referred to as the Blue Substation and Western's existing 230-kV transmission line, and also between the Tande 345-kV Substation and Basin Electric's existing Neset 230-kV Substation located near Tioga, North Dakota. Additionally, the White Substation would be constructed along with the Red Substation to the Blue Substation transmission line segment to interconnect with the local 115-kV system for load-serving purposes.

Description of Alternatives

Three transmission line alternatives, two transmission line variations in the Little Missouri National Grasslands (LMNG), and the No Action alternative were evaluated. Alternative C is described above; Alternative D is similar to Alternative C with the primary difference being the construction of a double-circuit 345-kV line north of Killdeer for 63 miles to the Blue Substation. Alternative E is similar to Alternative D with the primary difference being the construction of two parallel 345-kV transmission lines north of Killdeer rather than a double-circuit line. The variations across the LMNG include double-circuiting the 345-kV line with Western's existing 230-kV transmission Line. RUS has identified Alternative C as its preferred alternative because it best meets the purpose and need and minimizes or mitigates potential impacts.

Mitigation Measures

For the transmission facility component of the proposed Project, Basin Electric has committed to best management practices and mitigation measures as outlined in Appendix A of the Final EIS. Western will abide by the Biological Assessment as it pertains to the interconnection at Western's existing Williston Substation and Williston to Charlie Creek 230-kV transmission line.

In compliance with the National Historic Preservation Act, RUS/Western/USFS has executed a Programmatic Agreement with the North Dakota State Historic Preservation Office along with Basin Electric (as an invited signatory). Western has reviewed the October 17, 2014, letter to RUS from the Advisory Council on Historic Preservation (ACHP) concerning the Killdeer Mountain Battlefield (KMB) core and study areas; and has also reviewed the October 24, 2014, response letter from RUS to the Advisory Council, including the ACHP's ability to participate in consultation meetings, and that the more limited area was determined to be National Register of Historic Places (NRHP) eligible. Of significance to the ROD is that neither interconnection to the Williston Substation nor to the Williston to Charlie Creek 230-kV transmission line are in or close to the limited NRHP core area, nor the even larger KMB study area, and will have no effect on any of these areas.

Western requires its construction contractors to implement standard environmental protection provisions. These provisions are provided in Western's Construction Standard 13 and will be applied to the proposed interconnection.

The best management practices and mitigation measures in the Final EIS reflect all practicable means to avoid or minimize environmental harm from the proposed Project and Western's proposed action.

Decision

Western's decision is to allow Basin Electric's request for interconnection to Western's Williston Substation and its Williston to Charlie Creek 230-kV transmission line.² Western's decision to grant this interconnection request satisfies the agency's statutory mission and Basin Electric's objectives while minimizing harm to the environment. Full implementation of this decision is contingent upon Basin Electric obtaining all other applicable permits and approvals as well as executing an interconnection agreement in accordance with Western's General Requirements for Interconnection.

² On November 16, 2011, DOE's Acting General Counsel delegated to Western's Administrator all the authorities of the General Counsel respecting environmental impact statements.

This decision is based on the information contained in the Antelope Valley Station to Neset Transmission Project Final EIS. This ROD was prepared pursuant to the requirements of the Council on Environmental Quality Regulations for Implementing NEPA (40 CFR parts 1500-1508) and DOE's Procedures for Implementing NEPA (10 CFR part 1021).

Dated: November 21, 2014.
Mark A. Gabriel,
Administrator.

[FR Doc. 2014-28721 Filed 12-5-14; 8:45 am]

BILLING CODE 6450-01-P